DEPARTMENT OF THE INTERIOR

Office of the Secretary

Terminating the Sporting Conservation Council

AGENCY: Office of the Secretary, Interior.

ACTION: Notice of termination.

SUMMARY: After consultation with the Secretary of Agriculture and the General Services Administration, we, the Department of the Interior, have terminated the Sporting Conservation Council.

FOR FURTHER INFORMATION CONTACT: Bruce Decker, Chief, Division of Program and Partnership Support, External Affairs, U.S. Fish and Wildlife Service, 4501 N. Fairfax Drive, Mailstop EA-3103, Arlington, Virginia 22203; telephone 703-358-2521.

Dated: January 7, 2010.
Ken Salazar,
Secretary of the Interior.

[FR Doc. 2010-2497 Filed 2-4-10; 8:45 am]

BILLING CODE 4310-55-P